DEPARTMENT OF ENERGY

Federal Energy Regulatory Commission

Combined Notice of Filings

Take notice that the Commission has received the following Natural Gas Pipeline Rate and Refund Report filings:

Filings Instituting Proceedings

Docket Numbers: RP26-372-000.

Applicants: Iroquois Gas Transmission System, L.P.

Description: § 4(d) Rate Filing: 1.9.26 Negotiated Rates—Sequent Energy Management LLC H-3075-89 to be effective 1/9/2026.

Filed Date: 1/9/26.

Accession Number: 20260109-5135.

Comment Date: 5 p.m. ET 1/21/26.

Docket Numbers: RP26-373-000.

Applicants: Northern Natural Gas Company.

Description: § 4(d) Rate Filing: 20260109 Negotiated Rate Filing to be effective 1/10/2026.

Filed Date: 1/9/26.

Accession Number: 20260109-5154.

Comment Date: 5 p.m. ET 1/21/26.

Docket Numbers: RP26-374-000.

Applicants: Iroquois Gas Transmission System, L.P.

Description: § 4(d) Rate Filing: 1.9.26 Negotiated Rates—Vitol Inc. H-7495-89 to be effective 1/9/2026.

Filed Date: 1/9/26.

Accession Number: 20260109-5175.

Comment Date: 5 p.m. ET 1/21/26.

Docket Numbers: RP26-375-000.

Applicants: Texas Gas Transmission, LLC.

Description: § 4(d) Rate Filing: Cap Rel Neg Rate Agmt (Sabine 35030 to Koch 60149) to be effective 1/7/2026.

Filed Date: 1/9/26.

Accession Number: 20260109-5202.

Comment Date: 5 p.m. ET 1/21/26.

Any person desiring to intervene, to protest, or to answer a complaint in any of the above proceedings must file in accordance with Rules 211, 214, or 206 of the Commission's Regulations (18 CFR 385.211, 385.214, or 385.206) on or before 5:00 p.m. Eastern time on the specified comment date. Protests may be considered, but intervention is necessary to become a party to the proceeding.

Filings in Existing Proceedings

Docket Numbers: RP24-1103-004.

Applicants: Columbia Gas Transmission, LLC.

Description: Refund Report: Settlement Refund Report to be effective N/A.

Filed Date: 1/9/26.

Accession Number: 20260109-5136.

Comment Date: 5 p.m. ET 1/21/26.

Docket Numbers: RP26-195-001.

Applicants: Gulf South Pipeline Company, LLC.

Description: Compliance filing: Compliance Filing in Docket No. RP26-195 to be effective 12/15/2025.

Filed Date: 1/9/26.

Accession Number: 20260109-5213.

Comment Date: 5 p.m. ET 1/21/26.

Docket Numbers: RP26-344-001.

Applicants: Ruby Pipeline, L.L.C.

Description: Tariff Amendment: RP 2026-01-09 RP26-344 Amendment to be effective 1/1/2026.

Filed Date: 1/9/26.

Accession Number: 20260109-5171.

Comment Date: 5 p.m. ET 1/21/26.

Any person desiring to protest in any the above proceedings must file in accordance with Rule 211 of the Commission's Regulations (18 CFR 385.211) on or before 5:00 p.m. Eastern time on the specified comment date.

The filings are accessible in the Commission's eLibrary system (https://elibrary.ferc.gov/idmws/search/fercgensearch.asp ) by querying the docket number.

eFiling is encouraged. More detailed information relating to filing requirements, interventions, protests, service, and qualifying facilities filings can be found at: http://www.ferc.gov/docs-filing/efiling/filing-req.pdf. For other information, call (866) 208-3676 (toll free). For TTY, call (202) 502-8659.

For public inquiries and assistance with making filings such as interventions, comments, or requests for rehearing, the public is encouraged to contact OPP at (202) 502-6595 or OPP@ferc.gov.

Dated: January 12, 2026.
Carlos D. Clay,
Deputy Secretary.

[FR Doc. 2026-00693 Filed 1-14-26; 8:45 am]

BILLING CODE 6717-01-P